DEPARTMENT OF ENERGY

Federal Energy Regulatory Commission

[Docket No. EL07-85-000]

Notice of Complaint; Midwest Municipal Transmission Group, Complainant v. Interstate Power and Light Company, and Midwest Independent Transmission System Operator, Inc., Respondent

August 2, 2007.

Take notice that on July 31, 2007, Midwest Municipal Transmission Group (MMTG) pursuant to Federal Power Act § 206, 18 U.S.C. 824e and 18 CFR 385.206, tendered for filing a complaint regarding a stated component of the formula rate used in determining the annual transmission revenue requirement (ATRR) of Interstate Power and Light Company (IPL), and the resulting rates charged by the Midwest Independent Transmission System Operator, Inc. (Midwest ISO) for network transmission service to unbundled transmission customers serving loads located in its “Alliant West” zone. The Complaint is Part I, specifically, it concerns the return on equity used by IPL for that particular ATRR and zone. In Part II, MMTG moves for consolidation with Docket Nos. EC07-89 and ER07-887. Contact information and a description of MMTG is provided in Part III. MMTG states that it is also presenting an Offer of Settlement.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 20, 2007.

Kimberly D. Bose,
Secretary.

[FR Doc. E7-15523 Filed 8-8-07; 8:45 am]

BILLING CODE 6717-01-P